ENVIRONMENTAL PROTECTION AGENCY

[ER-FRL-9017-2]

Environmental Impact Statements; Notice of Availability

Responsible Agency: Office of Federal Activities, General Information (202) 564-7146 or http://www.epa.gov/compliance/nepa/.

Weekly Receipt of Environmental Impact Statements

Filed 09/15/2014 Through 09/19/2014

Pursuant to 40 CFR 1506.9.

Notice

Section 309(a) of the Clean Air Act requires that EPA make public its comments on EISs issued by other Federal agencies. EPA's comment letters on EISs are available at: http://www.epa.gov/compliance/nepa/eisdata.html.

EIS No. 20140272, Final Supplement, USFS, MT, Beaverhead-Deerlodge National Forest Land and Resource Management Plan to to Comply with a District of Montana Court Order (Temporary Roads), Review Period Ends: 10/27/2014, Contact: Jan Bowey 406-842-5432.

EIS No. 20140273, Draft EIS, USFS, MT, Como Forest Health Project (FHP), Comment Period Ends: 11/10/2014, Contact: Sara Grove 406-821-1251.

EIS No. 20140274, Second Final EIS (Tiering), FHWA, IL, Illiana Corridor Tier Two, Review Period Ends: 10/27/2014, Contact: Catherine A. Batey 217-492-4600.

EIS No. 20140275, Final EIS, FHWA, AZ, South Mountain Freeway (Loop 202), Review Period Ends: 11/25/2014, Contact: Alan Hansen 602-382-8964.

EIS No. 20140276, Draft EIS, BR, WA, Cle Elum Pool Raise Project—A Component of the Yakima River Basin Integrated Water Resource Management Plan, Comment Period Ends: 11/25/2014, Contact: Candace McKinley 509-575-5848, ext. 613.

EIS No. 20140277, Final EIS, USFS, MT, Greater Red Lodge Vegetation and Habitat Management Project, Review Period Ends: 11/10/2014, Contact: Amy Waring 406-255-1451.

EIS No. 20140278, Draft EIS, BLM, CA, Desert Renewable Energy Conservation Plan (DRECP), Comment Period Ends: 01/09/2015, Contact: Vicki Campbell 916-978-4401.

EIS No. 20140279, Final EIS, BR, CA, Contra Loma Reservoir and Recreation Area Final Resource Management Plan, Review Period Ends: 10/27/2014, Contact: David Woolley (559) 487-5049.

EIS No. 20140280, Draft EIS, FRA, FL, All Aboard Florida Intercity Passenger Rail Project, Comment Period Ends: 12/03/2014, Contact: John Winkle 202-493-6067.

EIS No. 20140281, Draft Supplement, FHWA, AK, Juneau Access Improvements Project, Comment Period Ends: 11/10/2014, Contact: Tim Haugh 907-586-7418.

Amended Notices

EIS No. 20140236, Final EIS, USACE, WA, Lower Snake River Programmatic Sediment Management Plan, Review Period Ends: 09/29/2014, Contact: Sandra Shelin 509-527-7265. Revision to FR Notice Published 08/22/2014; Extending Review Period from 09/22/2014 to 09/29/2014.

EIS No. 20140240, Draft Supplement, USACE, WA, Mount St. Helens Long-Term Sediment Management Plan, Comment Period Ends: 10/06/2014, Contact: Tina Teed 503-808-4960. Revision to FR Notice Published 08/22/2014; Extending Comment Period from 09/29/2014 to 10/06/2014.

EIS No. 20140266, Draft EIS, FRA, IL, Chicago—Detroit/Pontiac Passenger Rail Corridor Program, Comment Period Ends: 12/19/2014, Contact: Andrea Martin 202-493-6201. Revision to FR Notice Published 09/19/2014; Correction to Comment Period from 11/03/2014 to 12/19/2014.

EIS No. 20140271, Final EIS, FHWA, WI, West Waukesha Bypass, Review Period Ends: 10/20/2014, Contact: George Poirier 608-829-7500. Revision to FR Notice Published 09/19/2014; Correction to the Review Period should be 10/20/2014.

Dated: September 23, 2014.
Dawn Roberts,
Management Analyst, NEPA Compliance Division, Office of Federal Activities.

[FR Doc. 2014-23014 Filed 9-25-14; 8:45 am]

BILLING CODE 6560-50-P